INTERNATIONAL TRADE COMMISSION

[Investigation Nos. 731-TA-344, 391-A, 392-A and C, 393-A, 394-A, 396, and 399-A (Second Review)]

Certain Bearings From China, France, Germany, Italy, Japan, Singapore, and the United Kingdom

AGENCY: United States International Trade Commission.

ACTION: Revised schedule for the subject investigations.

EFFECTIVE DATE: December 9, 2005.

FOR FURTHER INFORMATION CONTACT: Debra Baker (202-205-3180), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS) at http://edis.usitc.gov.

SUPPLEMENTARY INFORMATION: On October 12, 2005, the Commission established a schedule for the conduct of the final phase of the subject investigations (70 FR 60556, October 18, 2005). Subsequently, the Commission received a request from an interested party to change the scheduled date for the public hearing. The Commission, therefore, is revising its schedule.

The Commission's new schedule for the investigations is as follows: requests to appear at the hearing must be filed with the Secretary to the Commission not later than April 20, 2006; the prehearing conference will be held at the U.S. International Trade Commission Building at 9:30 a.m. on April 25, 2006; the prehearing staff report will be placed in the nonpublic record on April 7, 2006; the deadline for filing prehearing briefs is April 21, 2006; the hearing will be held at the U.S. International Trade Commission Building at 9:30 a.m. on May 2, 2006; the deadline for filing posthearing briefs is May 11, 2006; the Commission will make its final release of information on June 6, 2006; and final party comments are due on June 8, 2006.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

By order of the Commission.
Issued: December 13, 2005.
Marilyn R. Abbott,
Secretary to the Commission.

[FR Doc. E5-7511 Filed 12-19-05; 8:45 am]

BILLING CODE 7020-02-P